DEPARTMENT OF TRANSPORTATION

Federal Aviation Administration

Eighteenth Tactical Operations Committee (TOC) Meeting

AGENCY: Federal Aviation Administration (FAA), U.S. Department of Transportation (DOT).

ACTION: Eighteenth TOC Meeting.

SUMMARY: The FAA is issuing this notice to advise the public of a meeting of the Eighteenth TOC Meeting.

DATES: The meeting will be held December 5, 2017, 09:00 a.m.-4:00 p.m., Eastern Daylight Time.

ADDRESSES: The meeting will be held at: National Business Aviation Association, 1200 G Street NW., Suite 1100, Washington, DC 20005.

FOR FURTHER INFORMATION CONTACT: Trin Mitra, TOC Secretariat, 202-330-0665, tmitra@rtca.org, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given of the Eighteenth TOC Meeting. The TOC is a component of RTCA, which is a Federal Advisory Committee. The agenda will include the following:

December 5, 2017, 09:00 a.m. to 4:00 p.m., Eastern Daylight Time

1. Welcome and Introductions of TOC Members

2. Official Statement of Designated Federal Officer

3. Review and Approval of Meeting Summary From the Previous TOC Meeting

4. FAA Update

5. Consideration of Draft Recommendations From the Common Support Services Flight Data Task Group

6. FAA Response on Previous TOC Recommendations

7. Update on Ongoing Task on Intentional GPS Interference

8. Discussion of Future/Potential Tasks

9. Other Business

10. Closing Comments—DFO and Chairs

11. Adjourn

Attendance is open to the interested public but limited to space availability. With the approval of the Chairman, members of the public may present oral statements at the meeting. Persons wishing to present statements or obtain information should contact the person listed in the FOR FURTHER INFORMATION CONTACT section. Members of the public may present a written statement to the committee at any time.

Issued in Washington, DC, on October 26, 2017.
Mohannad Dawoud,
Management & Program Analyst, Partnership Contracts Branch, ANG-A17, NextGen, Procurement Services Division, Federal Aviation Administration.

[FR Doc. 2017-23612 Filed 10-30-17; 8:45 am]

BILLING CODE 4910-13-P